DEPARTMENT OF COMMERCE

Patent and Trademark Office

Submission for OMB Review; Comment Request; “Patent and Trademark Resource Centers Metrics”

The Department of Commerce will submit to the Office of Management and Budget (OMB) for clearance the following proposal for collection of information under the provisions of the Paperwork Reduction Act (44 U.S.C. Chapter 35).

Agency: United States Patent and Trademark Office, Commerce

Title: Patent and Trademark Resource Centers Metrics

OMB Control Number: 0651-0068

Form Number(s):

• N/A

Type of Request: Regular

Number of Respondents: 84 libraries, for 336 responses per year.

Average Minutes per Response: 30 minutes

Burden Hours: 168

Cost Burden: $0

Needs and Uses:

The USPTO has undertaken a revitalization of the Patent and Trademark Depository Library Program to reflect the new 21st Century electronic approach to customer services. As a part of this revitalization, the name has changed to Patent and Trademark Resource Center Program and the nationwide network of libraries are known as Patent and Trademark Resource Centers (PTRCs). In addition, to enable the USPTO to more effectively train the PTRCs and the public to better use the tools and data available to them and to ascertain what types of new and different services the PTRCs should offer, the USPTO is requiring the centers to provide metrics on the PTRC outreach services and use of the patent and trademark services.

Recognition as a PTRC is authorized under the provisions of 35 U.S.C. 2(a)(2), which provides that the USPTO shall be responsible for disseminating to the public information with respect to patents and trademarks. In order to be designated as a PTRC, libraries must fulfill the following requirements: Assist the public in the efficient use of patent and trademark information resources; provide free access to patent and trademark resources provided by the USPTO; provide metrics on the use of patent and trademark services provided by the member library as stipulated by the USPTO; provide metrics on outreach efforts conducted by the member library as stipulated by the USPTO; and send representatives to attend the USPTO-hosted PTRC training seminars.

Since the PTRC requirements stipulate that the participating libraries must submit information (metrics) in order to be designated as a PTRC, the USPTO is submitting this new information collection for review under the PRA. The information collected will enable the USPTO to more effectively train the PTRC staff who, in turn, provide assistance and training to public customers in the areas of patent and trademarks. As the PTRCs continue to move away from the physical distribution of hard copy information, the USPTO is interested in what types of new and different services the PTRC of the future should offer its customers. Collection of this information will enable the USPTO to more effectively service its current customers while planning for the future.

The USPTO has developed a worksheet to collect the metrics concerning the use of the patent and trademark services and the public outreach efforts from the libraries. On the USPTO's behalf, the metrics will be collected on a quarterly basis through a third-party vendor. The information will only be collected electronically. The PTRCs will be given a password to input their information.

Affected Public: Not-for-profit institutions.

Frequency: Annually

Respondent's Obligation: Mandatory

This information collection request may be viewed at reginfo.gov. Follow the instructions to view Department of Commerce collections currently under review by OMB.

Written comments may be submitted by any of the following methods:

• Email: InformationCollection@uspto.gov. Include “0651-0068 Patent and Trademark Resource Center Metrics” in the subject line of the message.

• Mail: Marcie Lovett, Records Management Division Director, Office of the Chief Information Officer, United States Patent and Trademark Office, P.O. Box 1450, Alexandria, VA 22313-1450.

• Federal Rulemaking Portal: http://www.regulations.gov.

Dated: January 23, 2015.
Marcie Lovett,
Records Management Division Director, USPTO, Office of the Chief Information Officer.

[FR Doc. 2015-01672 Filed 1-30-15; 8:45 am]

BILLING CODE 3510-16-P